DEPARTMENT OF HEALTH AND HUMAN SERVICES

Centers for Disease Control and Prevention

Disease, Disability, and Injury Prevention and Control Special Emphasis Panel (SEP): Influenza and Other Emerging Infectious Diseases in Vietnam; and Research and Public Health Practice on Influenza and Other Respiratory Infectious Diseases in the Middle East, Southeast Asia, and South American Regions, Funding Opportunity Announcement (FOA) IP09-002 and IP09-004

In accordance with Section 10(a)(2) of the Federal Advisory Committee Act (Pub. L. 92-463), the Centers for Disease Control and Prevention (CDC) announces the aforementioned meeting.

Time and Date: 8 a.m.-5 p.m., April 7, 2009 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of “Influenza and Other Emerging Infectious Diseases in Vietnam; and Research and Public Health Practice on Influenza and Other Respiratory Infectious Diseases in the Middle East, Southeast Asia, and South American Regions, FOA IP09-002 and IP09-004.”

Contact Person for More Information: Gregory Anderson, M.S., M.P.H., Office of the Director, Coordinating Center for Infectious Diseases, CDC, 1600 Clifton Road, Mailstop E-60, Atlanta, GA 30333, Telephone: (404) 498-2275.

The Director, Management Analysis and Services Office, has been delegated the authority to sign Federal Register notices pertaining to announcements of meetings and other committee management activities, for both CDC and the Agency for Toxic Substances and Disease Registry.

Dated: March 13, 2009.
Elaine L. Baker,
Director, Management Analysis and Services Office, Centers for Disease Control and Prevention.

[FR Doc. E9-6049 Filed 3-18-09; 8:45 am]

BILLING CODE 4163-18-P